DEPARTMENT OF AGRICULTURE

Natural Resources Conservation Service

Lost River Subwatershed of the Potomac River Watershed, Hardy County, WV

AGENCY: Natural Resources Conservation Service, USDA.

ACTION: Notice of availability of a record of decision.

SUMMARY: Louis Aspey, responsible Federal official for projects administered under the provisions of the Flood Control Act of 1944, Public Law 78-534, in the State of West Virginia, is hereby providing notification that a Record of Decision to proceed with the installation of the Lost River Site 16 project on Lower Cove Run is available. Single copies of this Record of Decision may be obtained from Louis Aspey at the address shown below.

FOR FURTHER INFORMATION CONTACT: Louis Aspey, Acting State Conservationist, Natural Resources Conservation Service, 1550 Earl Core Road, Suite 200, Morgantown, West Virginia 26505, telephone (304) 284-7540.

Dated: October 7, 2009.
Louis E. Aspey II,
Acting State Conservationist.

“(This activity is listed in the Catalog of Federal Domestic Assistance under No. 10-904—Watershed Protection and Flood Prevention—and is subject to the provisions of Executive Order 12372 which requires intergovernmental consultation with State and local officials.)”

[FR Doc. E9-24820 Filed 10-15-09; 8:45 am]

BILLING CODE 3410-16-P